DEPARTMENT OF TRANSPORTATION

Federal Motor Carrier Safety Administration

[Docket No. FMCSA-2007-28043]

Hours of Service (HOS) of Drivers; American Pyrotechnics Ass'n. (APA) Application for Exemption From the 14-Hour Rule; Extension of Current APA Exemption Period

AGENCY: Federal Motor Carrier Safety Administration (FMCSA), DOT.

ACTION: Notice of application for and extension of exemption; request for comments.

SUMMARY: The American Pyrotechnics Association (APA), on behalf of its member companies, has requested additions to and deletions from the list of motor carriers previously granted exemptions for the 2015 and 2016 Independence Day fireworks shows. Fifty-one APA members currently hold such exemptions from the prohibition on driving commercial motor vehicles (CMVs) after the 14th hour after the driver comes on duty. APA requests discontinuance of the exemption for 4 carriers, and new exemptions for 4 carriers, with the total therefore remaining at 51. The “Fixing America's Surface Transportation Act” (FAST Act) extended the expiration date of hours-of-service (HOS) exemptions in effect on the date of enactment of the FAST Act to 5 years from the date of issuance. This notice therefore extends to July 8, 2020, the exemption for the 47 APA members approved in 2015 that wish to retain the exemption. Finally, FMCSA seeks comment on the applications of 4 APA members not previously exempted from the 14-hour rule. Because the FAST Act also authorized new exemptions for a period of up to 5 years, the Agency proposes to grant these 4 motor carriers exemptions that would run through July 8, 2020, and terminate at the same time as the other 47 exemptions. The APA maintains that the terms and conditions of the limited exemption would ensure a level of safety equivalent to, or greater than, the level of safety achieved without the exemption.

DATES: June 8, 2016.

ADDRESSES: You may submit comments bearing the Federal Docket Management System (FDMS) Docket ID FMCSA-2007-28043 using any of the following methods:

• Federal eRulemaking Portal: www.regulations.gov. Follow the online instructions for submitting comments.

• Mail: Docket Management Facility, U.S. Department of Transportation, 1200 New Jersey Avenue SE., West Building, Ground Floor, Room W12-140, Washington, DC 20590-0001.

• Hand Delivery or Courier: West Building, Ground Floor, Room W12-140, 1200 New Jersey Avenue SE., between 9 a.m. and 5 p.m., Monday through Friday, except Federal holidays.

• Fax: 1-202-493-2251.

Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE., Washington, DC, between 9 a.m. and 5 p.m., ET, Monday through Friday, except Federal holidays. The on-line FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: For information concerning this notice, contact Ms. Pearlie Robinson, FMCSA Driver and Carrier Operations Division; Office of Carrier, Driver and Vehicle Safety Standards; Telephone: (202) 366-4325. Email: MCPSD@dot.gov. If you have questions on viewing or submitting material to the docket, contact Docket Services, telephone (202) 366-9826.

SUPPLEMENTARY INFORMATION:

I. Public Participation and Request for Comments

FMCSA encourages you to participate by submitting comments and related materials.

Submitting Comments

If you submit a comment, please include the docket number for this notice (FMCSA-2007-28043), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number, “FMCSA-2007-28043” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

Viewing Comments and Documents

To view comments, as well as documents mentioned in this preamble as being available in the docket, go to www.regulations.gov and insert the docket number, “FMCSA-2007-28043” in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

II. Legal Basis

FMCSA has authority under 49 U.S.C. 31136(e) and 31315 to grant exemptions from certain parts of the Federal Motor Carrier Safety Regulations. FMCSA must publish a notice of each exemption request in the Federal Register (49 CFR 381.315(a)). The Agency must provide the public an opportunity to inspect the information relevant to the application, including any safety analyses that have been conducted. The Agency must also provide an opportunity for public comment on the request.

The Agency reviews the safety analyses and the public comments, and determines whether granting the exemption would likely achieve a level of safety equivalent to, or greater than, the level that would be achieved by the current regulation (49 CFR 381.305). The decision of the Agency must be published in the Federal Register (49 CFR 381.315(b)) with the reason for the grant or denial, and, if granted, the specific person or class of persons receiving the exemption, and the regulatory provision or provisions from which exemption is granted. The notice must also specify the effective period of the exemption, and explain its terms and conditions. The exemption may be renewed (49 CFR 381.300(b)).

Section 5206(a)(3) of the FAST Act amended 49 U.S.C. 31315 to permit FMCSA to grant exemptions for up to 5 years from the date of issuance, instead of the previous two years [§ 31315(b)(2)]. This statutory provision will be codified in 49 CFR part 381 in a forthcoming rulemaking. Section 5206(b)(2)(A) of the FAST Act also extended all HOS exemptions in effect on the date of enactment to a period of 5 years from the date of issuance.

APA Application for Exemption

The HOS rule in 49 CFR 395.3(a)(2) prohibits the driver of a property-carrying CMV from driving after the 14th hour after coming on duty following 10 consecutive hours off duty. The APA, a trade association representing the domestic fireworks industry, was granted an exemption for 51 member companies for the 2015 and 2016 Independence Day periods [80 FR 37040, June 29, 2015]. APA has requested discontinuing the exemptions for 4 carriers,¹ and adding 4 new carriers, maintaining the total at 51. The 51 exemptions granted to APA members in 2015 (now reduced to 47 exemptions) are extended, pursuant to section 5206(b)(2)(A) of the FAST Act, through the annual Independence Day periods ending on July 8, 2020. The exemptions for the 4 new APA carriers, if granted, would expire on July 8, 2020. Although this is less than the 5-year exemption period authorized by 49 U.S.C. 31315(b)(2), as amended by section 5206(a)(3) of the FAST Act, FMCSA believes that the interests of the APA members and the Agency would best be served by harmonizing, as far as possible, the expiration dates of all such fireworks-related exemptions. It should also be noted that section 5206(b)(2)(A) of the FAST Act extends HOS exemptions in effect on the date of enactment “for a period of 5 years from the date such exemption was granted” (emphasis added). FMCSA believes that the intent of the statute was to extend the effective period of an exemption from 2 to 5 years, on the assumption that exemptions begin upon issuance and remain in effect (in most cases) for 2 consecutive years. Since the 2015 fireworks exemption involved 2 separate periods, both ending after “the date such exemption was granted,” the Agency believes the FAST Act amendment is best interpreted as extending the end date of the fireworks exemption—namely July 8 of each year—through 2020. Like the other 47 member-companies that operated under the 2015 exemption, the 4 additional member companies would be subject to all of the terms and conditions of the exemption.

¹ Colonial Fireworks, DOT 177274; Fireworks West Internationale, DOT 245423; USA Halloween Planet Inc. dba USA Fireworks, DOT 725457; Western Fireworks Inc., DOT 838585.

The initial APA application for relief from the 14-hour rule was submitted in 2004; a copy is in the docket. That application fully describes the nature of the pyrotechnic operations of the CMV drivers during a typical Independence Day period.

As stated in the 2004 request, the CMV drivers employed by APA member companies are trained pyro-technicians who hold commercial driver's licenses (CDLs) with hazardous materials (HM) endorsements. They transport fireworks and related equipment by CMVs on a very demanding schedule during a brief Independence Day period, often to remote locations. After they arrive, the drivers are responsible for set-up and staging of the fireworks shows.

The APA states that it is seeking an exemption for an additional 4 member companies because compliance with the current 14-hour rule in 49 CFR 395.3(a)(2) would impose a substantial economic hardship on numerous cities, towns and municipalities, as well as its member companies. To meet the demand for fireworks without the exemption, APA states that its member companies would be required to hire a second driver for most trips. The APA advises that the result would be a substantial increase in the cost of the fireworks shows—beyond the means of many of its members' customers—and that many Americans would be denied this important component of the celebration of Independence Day. The 47 APA member companies currently exempt, as well as the 4 carriers seeking an exemption for the first time, are listed in an appendix to this notice. The 4 new carriers are identified with an asterisk. A copy of the request for the exemption is included in the docket referenced at the beginning of this notice.

Method To Ensure an Equivalent or Greater Level of Safety

The APA believes that the new exemptions would not adversely affect the safety of the fireworks transportation provided by these motor carriers. According to APA, its member-companies have operated under this exemption for 10 previous Independence Day periods without a reported motor carrier safety incident. Moreover, it asserts, without the extra time provided by the exemption, safety would decline because APA drivers would be unable to return to their home base after each show. They would be forced to park the CMVs carrying HM 1.1G, 1.3G and 1.4G products in areas less secure than the motor carrier's home base. As a condition of holding the exemption, each motor carrier would be required to notify FMCSA within 5 business days of any accident (as defined in 49 CFR 390.5) involving the operation of any its CMVs while under this exemption. To date, FMCSA has received no accident notifications, nor is the Agency aware of any accidents reportable under terms of the prior APA exemptions.

In its exemption request, APA asserts that the operational demands of this unique industry minimize the risks of CMV crashes. In the last few days before July 4, these drivers transport fireworks over relatively short routes from distribution points to the site of the fireworks display, and normally do so in the early morning when traffic is light. At the site, they spend considerable time installing, wiring, and safety-checking the fireworks displays, followed by several hours off duty in the late afternoon and early evening prior to the event. During this time, the drivers are able to rest and nap, thereby reducing or eliminating the fatigue accumulated during the day. Before beginning another duty day, these drivers must take 10 consecutive hours off duty, the same as other CMV drivers.

Terms and Conditions of the Exemption

Period of the Exemption

The requested exemption from 49 CFR 395.3(a)(2) would be effective from June 28 through July 8, at 11:59 p.m. local time, each year through 2020.

Terms and Conditions of the Exemption

During the 2016 Independence Day period, the exemption from 49 CFR 395.3(a)(2) would be limited to drivers employed by the 47 motor carriers already covered by the exemption, plus (if approved) the 4 carriers now seeking an exemption. The four carriers that were not included for the 2015 period are identified by an asterisk. Section 395.3(a)(2) prohibits a driver from driving a CMV after the 14th hour after coming on duty and does not permit off-duty periods to extend the 14-hour limit. Drivers covered by this exemption would be able to exclude off-duty and sleeper-berth time of any length from the calculation of the 14-hour limit. This exemption would be contingent on each driver driving no more than 11 hours in the 14-hour period after coming on duty, as extended by any off-duty or sleeper-berth time in accordance with this exception. The exemption would be further contingent on each driver having a full 10 consecutive hours off duty following 14 hours on duty prior to beginning a new driving period. The carriers and drivers must comply with all other requirements of the Federal Motor Carrier Safety Regulations (49 CFR parts 350-399) and Hazardous Materials Regulations (49 CFR parts 105-180).

Preemption

In accordance with 49 U.S.C. 31315(d), as implemented by 49 CFR 381.600, during the period this exemption is in effect, no State shall enforce any law or regulation applicable to interstate commerce that conflicts with or is inconsistent with this exemption with respect to a firm or person operating under the exemption. States may, but are not required to, adopt the same exemption with respect to operations in intrastate commerce.

FMCSA Notification

Exempt motor carriers would be required to notify FMCSA within 5 business days of any accidents (as defined by 49 CFR 390.5) involving the operation of any of their CMVs while under this exemption. The notification must include the following information:

a. Name of the exemption: “APA,”

b. Date of the accident,

c. City or town, and State, in which the accident occurred, or which is closest to the scene of the accident,

d. Driver's name and driver's license number,

e. Vehicle number and State license number,

f. Number of individuals suffering physical injury,

g. Number of fatalities,

h. The police-reported cause of the accident,

i. Whether the driver was cited for violation of any traffic laws, or motor carrier safety regulations, and

j. The total driving time and the total on-duty time of the CMV driver at the time of the accident.

Termination

The FMCSA does not believe the motor carriers and drivers covered by this exemption, if granted, would experience any deterioration of their safety record. However, should this occur, FMCSA would take all steps necessary to protect the public interest, including revocation of the exemption. The FMCSA will immediately revoke the exemption for failure to comply with its terms and conditions. Exempt motor carriers and drivers would be subject to FMCSA monitoring while operating under this exemption.

Issued on: May 2, 2016.
Larry W. Minor,
Associate Administrator for Policy.

Appendix to Notice of APA Application for Exemption From the 14-Hour Rule During 2016-2020 Independence Day Celebrations; Extension of Current Exemption

| Motor carrier | Street address | City, state, zip code | DOT No.
1 | American Fireworks Company | 7041 Darrow Road | Hudson, OH 44236 | 103972
2 | American Fireworks Display, LLC | P.O. Box 980 | Oxford, NY 13830 | 2115608
3 | AM Pyrotechnics, LLC | 2429 East 535th Rd | Buffalo, MO 65622 | 1034961
4 | Arthur Rozzi Pyrotechnics | 6607 Red Hawk Ct | Maineville, OH 45039 | 2008107
5 | Atlas PyroVision Entertainment Group, Inc | 136 Old Sharon Rd | Jaffrey, NH 03452 | 789777
6 | Central States Fireworks, Inc | 18034 Kincaid Street | Athens, IL 62613 | 1022659
7 | East Coast Pyrotechnics, Inc | 4652 Catawba River Rd | Catawba, SC 29704 | 545033
8 | Entertainment Fireworks, Inc | 13313 Reeder Road SW | Tenino, WA 98589 | 680942
9 | Falcon Fireworks | 3411 Courthouse Road | Guyton, GA 31312 | 1037954
10 | Fireworks & Stage FX America | 12650 Hwy 67S. Suite B | Lakeside, CA 92040 | 908304
11 | Fireworks by Grucci, Inc | 20 Pinehurst Drive | BellPort, NY 11713 | 324490
12 | * Flashing Thunder Fireworks dba Legal Aluminum King Mtg | 700 E Van Buren Street | Mitchell, IA 50461 | 420413
13 | J&J Computing dba Fireworks Extravaganza | 174 Route 17 North | Rochelle Park, NJ 07662 | 2064141
14 | Gateway Fireworks Displays | P.O. Box 39327 | St Louis, MO 63139 | 1325301
15 | Great Lakes Fireworks | 24805 Marine | East Pointe, MI 48021 | 1011216
16 | Hamburg Fireworks Display, Inc | 2240 Horns Mill Road SE | Lancaster, OH | 395079
17 | Hawaii Explosives & Pyrotechnics, Inc | 17-7850 N. Kulani Road | Mountain View, HI 96771 | 1375918
18 | Hollywood Pyrotechnics, Inc | 1567 Antler Point | Eagan, MN 55122 | 1061068
19 | Homeland Fireworks, Inc | P.O. Box 7 | Jamieson, OR 97909 | 1377525
20 | Island Fireworks Co., Inc | N1597 County Rd VV | Hager City, WI 54014 | 414583
21 | J&M Displays, Inc | 18064 170th Ave | Yarmouth, IA 52660 | 377461
22 | Lantis Fireworks, Inc | 130 Sodrac Dr., Box 229 | N. Sioux City, SD 57049 | 534052
23 | Legion Fireworks Co., Inc | 10 Legion Lane | Wappingers Falls, NY 12590 | 554391
24 | Miand Inc. dba Planet Productions (Mad Bomber) | P.O. Box 294, 3999 Hupp Road R31 | Kingsbury, IN 46345 | 777176
25 | Martin & Ware Inc. dba Pyro City Maine & Central Maine Pyrotechnics | P.P. Box 322 | Hallowell, ME 04347 | 734974
26 | Melrose Pyrotechnics, Inc | 1 Kinsgubury Industrial Park | Kingsbury, IN 46345 | 434586
27 | Precocious Pyrotechnics, Inc | 4420-278th Ave NW | Belgrade, MN 56312 | 435931
28 | * Pyro Shows, Inc | 115 N 1st Street | LaFollette, TN 37766 | 456818
29 | Pyro Shows of Texas, Inc | 6601 9 Mile Azle Rd | Fort Worth, TX 76135 | 2432196
30 | * Pyro Engineering Inc., dba/Bay Fireworks | 400 Broadhollow Rd. Ste #3 | Farmindale, NY 11735 | 530262
31 | Pyro Spectaculars, Inc | 3196 N Locust Ave | Rialto, CA 92376 | 029329
32 | Pyro Spectaculars North, Inc | 5301 Lang Avenue | McClellan, CA 95652 | 1671438
33 | Pyrotechnic Display, Inc | 8450 W. St. Francis Rd | Frankfort, IL 60423 | 1929883
34 | Pyrotecnico (S. Vitale Pyrotechnic Industries, Inc.) | 302 Wilson Rd | New Castle, PA 16105 | 526749
35 | Pyrotecnico, LLC | 60 West Ct | Mandeville, LA 70471 | 548303
36 | Pyrotecnico FX | 6965 Speedway Blvd. Suite 115 | Las Vegas, NV 89115 | 1610728
37 | Rainbow Fireworks, Inc | 76 Plum Ave. | Inman, KS 67546 | 1139643
38 | RES Specialty Pyrotechnics | 21595 286th St | Belle Plaine, MN 56011 | 523981
39 | Rozzi's Famous Fireworks, Inc | 11605 North Lebanon Rd | Loveland, OH 45140 | 0483686
40 | * Sky Wonder Pyrotechnics, LLC | 3626 CR 203 | Liverpool, TX 77577 | 1324580
41 | Skyworks, Ltd | 13513 W. Carrier Rd | Carrier, OK 73727 | 1421047
42 | Sorgi American Fireworks Michigan, LLC | 935 Wales Ridge Rd | Wales, MI 48027 | 2475727
43 | Spielbauer Fireworks Co, Inc | 220 Roselawn Blvd | Green Bay, WI 54301 | 046479
44 | Spirit of 76 | 6401 West Hwy 40 | Columbia, MO 65202 | 2138948
45 | Starfire Corporation | 682 Cole Road | Carrolltown, PA 15722 | 554645
46 | Vermont Fireworks Co., Inc./ Northstar Fireworks Co., Inc | 2235 Vermont Route 14 South | East Montpelier, VT 05651 | 310632
47 | Western Display Fireworks, Ltd | 10946 S. New Era Rd | Canby, OR 97013 | 498941
48 | Western Enterprises, Inc | P.O. Box 160 | Carrier, OK 73727 | 203517
49 | Wolverine Fireworks Display, Inc | 205 W Seidlers | Kawkawlin, MI | 376857
50 | Young Explosives Corp | P.O. Box 18653 | Rochester, NY 14618 | 450304
51 | Zambelli Fireworks MFG, Co., Inc | P.O. Box 1463 | New Castle, PA 16103 | 033167
* New applicants for exemption

[FR Doc. 2016-10820 Filed 5-6-16; 8:45 am]

BILLING CODE 4910-EX-P